DEPARTMENT OF TRANSPORTATION

Federal Aviation Administration

Notice of Passenger Facility Charge (PFC) Approvals and Disapprovals

AGENCY: Federal Aviation Administration (FAA), DOT.

ACTION: Monthly Notice of PFC Approvals and Disapprovals. In April 2014, there were seven applications approved. This notice also includes information on two applications, one approved in March 2012 and the other approved in January 2014, inadvertently left off the March 2012 and January 2014 notices, respectively. Additionally, five approved amendments to previously approved applications are listed.

SUMMARY: The FAA publishes a monthly notice, as appropriate, of PFC approvals and disapprovals under the provisions of the Aviation Safety and Capacity Expansion Act of 1990 (Title IX of the Omnibus Budget Reconciliation Act of 1990) (Public Law 101-508) and Part 158 of the Federal Aviation Regulations (14 CFR Part 158). This notice is published pursuant to paragraph d of § 158.29.

PFC Applications Approved

Public Agency: Peninsula Airport Commission, Newport News, Virginia.

Application Number: 12-03-C-00-PHF.

Application Type: Impose and use a PFC.

PFC Level: $4.50.

Total PFC Revenue Approved In This Decision: $12,090,644.

Earliest Charge Effective Date: March 1, 2017.

Estimated Charge Expiration Date: March 1, 2022.

Class of Air Carriers Not Required to Collect PFC'S: Air carriers operating under Part 135 or Part 298 on an on-demand, non-scheduled whole plane charter basis and filing FAA Form 1800-31.

Determination: Approved. Based on information submitted in the public agency's application, the FAA has determined that the proposed class accounts for less than 1 percent of the total annual enplanements at Newport News/Williamsburg International Airport.

Brief Description of Projects Approved for Collection at And Use: Taxiway A lighting (design).

Wetlands mitigation.

Taxiway A design.

Outbound baggage handling system replacement.

Snow removal equipment.

Baggage claim expansion (design).

Security checkpoint (planning and design).

PFC application development.

PFC application administration.

Runway 17/35 lighting (design).

Brief Description of Projects Approved for Collection: Taxiway A reconstruction—construction.

Baggage claim expansion (construction).

Security checkpoint (construction).

Taxiways A and F (design).

Taxiways A and F (construction).

Decision Date: March 21, 2012.

FOR FURTHER INFORMATION CONTACT: Jeffrey Breeden, Washington Airports District Office, (703) 661-1363.

Public Agency: Barkley Regional Airport Authority, Paducah, Kentucky.

Application Number: 14-03-C-00-PAH.

Application Type: Impose and use a PFC.

PFC Level: $4.50.

Total PFC Revenue Approved In This Decision: $532,931.

Earliest Charge Effective Date: January 1, 2017.

Estimated Charge Expiration Date: October 1, 2025.

Classes of Air Carriers Not Required to Collect PFC'S: (1) Air taxi/commercial operators enplaning less than 200 annual passengers at Barkley Regional Airport (PAH); and (2) large certificated air carriers filing DOT Form T-100, conducting only nonscheduled operations at (PAH), and enplaning less than 200 annual passengers at PAH.

Determination: Approved. Based on information submitted in the public agency's application, the FAA has determined that each proposed class accounts for less than 1 percent of the total annual enplanements at PAH.

Brief Description of Project Approved for Collection At And Use: Perimeter road construction.

Aircraft board stairs.

Pave access road.

Rehabilitate 6,300-square-yard apron.

Construct supplemental lighted wind cones.

Construct taxilanes site grade and drain.

Construct terminal building pipe bollards.

Construct commute-a-walk concrete pads.

Repave aircraft rescue and firefighting station turn-around.

New terminal location study.

Refurbish 1980 snow plow.

Purchase five 800 MHz security radios.

Design and construct runway safety area 22 improvement.

Design and construct apron overlay phase 1.

Design and construct Watergate east of runway 4.

Design and construct drive and security fence.

Design and construct waterline extension and fire hydrant.

Design and construct apron overlay phase 2.

Replace security patrol vehicle.

Rebuild waste water lift/grinder station.

Purchase end loader/snow blower.

Renovate 1990 snow plow.

Tree trimming for runway 32 approach.

Glycol recapture system design.

Expand/update airfield equipment building.

Replace old power vault medium intensity taxiway lighting regulator.

Re-grade between taxiway A south and runway 4.

Terminal footprint study.

Replace failed rotating beacon.

Construct Circle Drive.

Replace three existing security gates.

New air compressor at fire station.

Wildlife assessment study.

Surface painted holding position signs.

Clean/reseal joints, terminal apron.

Breathing packs for aircraft rescue and firefighting.

Survey electrical load and provide vault generator.

Phase A tiedown apron and taxilane.

Slope protection of runway 4 runway safety area, phase 1.

Seal coat runways and taxiways, phase 1.

Aircraft wheelchair lift.

Satellite radio mobile communication system.

Slope protection of runway 4 runway safety area, phase 2.

Seal coat runways and taxiways, phase 2.

Phase B tiedown apron and taxilane.

Slope protection for runway safety area, runway 4.

Storm drainage research and design.

Airport layout plan update.

Design for terminal re-roof.

Friction measuring equipment.

Construct restroom in secured gate area.

Renovation of existing storm sewer, phase A.

Design and phase A construction of concrete apron.

Identification badge card printer.

Aircraft rescue and firefighting vehicle.

Perimeter fence security upgrade design.

Renovate terminal for efficient movement.

Security enhancements (gate controllers).

Concrete apron phase B.

New terminal environmental assessment.

Rehabilitate terminal roof.

Rehabilitate terminal building re-roof, phase B.

Perimeter/security fence upgrade.

Remark runway 14/32 to Global Positioning System Area Navigation standards.

Update 800 MHz radio system.

Replace storm sewer system under apron.

Replace taxiways A, B, C west, and F north edge lights.

Replace security inspection vehicle.

Corrective marking, runway 4/22 to runway 5/23.

Brief Description of Withdrawn Projects: Fuel truck spill containment pad.

Fuel truck water supply hose.

Fire station repair to National Institute for Occupational Safety and Health standards.

Date of Withdrawal: January 15, 2014.

Decision Date: January 21, 2014.

FOR FURTHER INFORMATION CONTACT: Cynthia Wills, Memphis Airports District Office, (901) 322-8190.

Public Agency: Niagara Frontier Transportation Authority, Buffalo, New York.

Application Number: 13-10-C-00-BUF.

Application Type: Impose and use a PFC.

PFC Level: $4.50.

Total PFC Revenue Approved In This Decision: $478,540.

Earliest Charge Effective Date: August 1, 2014.

Estimated Charge Expiration Date: September 1, 2014.

Class of Air Carriers Not Required to Collect PFC'S: Part 135 air taxi/commercial operators filing FAA Form 1800-31.

Determination: Approved. Based on information submitted in the public agency's application, the FAA has determined that the proposed class accounts for less than 1 percent of the total annual enplanements at Buffalo Niagara International Airport (BUF).

Brief Description of Projects Approved for Collection At BUF And Use At BUF At A $4.50 PFC Level: Runway 14 runway protection zone land acquisition.

West side waterline replacement.

Brief Description of Projects Approved for Collection At BUF And Use At BUF At A $3.00 PFC Level: Upgrade terminal restrooms.

Liquid chemical storage facility.

New aircraft rescue and firefighting station (design only).

Brief Description of Project Approved For Collection At BUF And Use At Niagara Falls International Airport At A $4.50 PFC Level: Runway 6/24 runway safety area improvements, phase 2.

Brief Description of Disapproved Project: Purchase of security equipment.

Determination: Disapproved. The project requested four vehicles; however airports of a similar size are typically eligible for only one vehicle. In addition, the public agency failed to provide required documentation that is necessary in order to establish PFC eligibility in accordance with § 158.15(b).

Brief Description of Withdrawn Projects: Salt barn.

Remain-overnight apron improvements.

Purchase passenger movement equipment.

Date of Withdrawal: April 4, 2014.

Decision Date: April 9, 2014.

FOR FURTHER INFORMATION CONTACT: Jeffrey Breeden, Washington Airports District Office, (703) 661-1363.

Public Agency: City of Atlanta, Georgia.

Application Number: 14-05-C-00-ATL.

Application Type: Impose and use a PFC.

PFC Level: $4.50.

Total PFC Revenue Approved In This Decision: $23,550,000.

Earliest Charge Effective Date: December 1, 2023.

Estimated Charge Expiration Date: February 1, 2024.

Class of Air Carriers Not Required To Collect PFC'S: Air taxi/commercial operators when enplaning revenue passengers in limited, irregular, special service air taxi/commercial operations such as air ambulance services, student instruction, and non-stop sightseeing flights that begin and end at Hartsfield-Jackson Atlanta International Airport (ATL) and are concluded within a 25-mile radius of the airport.

Determination: Approved. Based on information submitted in the public agency's application, the FAA has determined that the proposed class accounts for less than 1 percent of the total annual enplanements at ATL.

Brief Description of Project Approved for Collection At And Use At A $4.50 Pfc Level: Concourse T-north optimization, phase 3.

Brief Description of Withdrawn Project: Drainage improvements for land acquisition for airport expansion east.

Date of Withdrawal: January 8, 2014.

Decision Date: April 10, 2014.

FOR FURTHER INFORMATION CONTACT: Parks Preston, Atlanta Airports District Office, (404) 305-7149.

Public Agency: City of Hailey and County of Blaine, Hailey, Idaho.

Application Number: 14-09-C-00-SUN.

Application Type: Impose and use a PFC.

PFC Level: $4.50.

Total PFC Revenue Approved In This Decision: $2,787,259.

Earliest Charge Effective Date: July 1, 2014.

Estimated Charge Expiration Date: July 1, 2028.

Class of Air Carriers Not Required To Collect PFC'S: Air taxi/commercial operators filing FAA Form 1800-31.

Determination: Approved. Based on information submitted in the public agency's application, the FAA has determined that the proposed class accounts for less than 1 percent of the total annual enplanements at Friedman Memorial Airport.

Brief Description of Projects Approved For Collection And Use: Runway safety area formulation.

Acquire snow removal equipment.

Master plan.

Relocate southwest taxilane bypass.

Relocate general aviation apron.

Perimeter fence relocation.

Runway safety area grading.

Relocate taxiway A and obliterate taxiway B.

Relocate power supply to precision approach path indicator.

Relocate automated weather observing system.

Relocate snow removal equipment/aircraft rescue and firefighting building.

Relocate terminal area apron.

Relocate cargo apron.

Relocate hangars.

Rehabilitate terminal building.

Relocate north taxilane.

Relocate central bypass apron.

Runway rehabilitation.

PFC administration.

Decision Date: April 11, 2014.

FOR FURTHER INFORMATION CONTACT: Jason Garwood, Helena Airports District Office, (406) 449-5078.

Public Agency: Port of Pasco, Pasco, Washington.

Application Number: 14-10-C-00-PSC.

Application Type: Impose and use a PFC.

PFC Level: $4.50.

Total PFC Revenue Approved In This Decision: $40,881,455.

Earliest Charge Effective Date: August 1, 2023.

Estimated Charge Expiration Date: August 1, 2045.

Class Of Air Carriers Not Required To Collect PFC'S: None.

Brief Description of Project Approved for Collection And Use: Terminal building reconfiguration and expansion.

Decision Date: April 11, 2014.

FOR FURTHER INFORMATION CONTACT: Trang Tran, Seattle Airports District Office, (425) 227-1662.

Public Agency: Peninsula Airport Commission, Newport News, Virginia.

Application Number: 14-04-U-00-PHF.

Application Type: Use PFC revenue.

PFC Level: $4.50.

Total PFC Revenue Approved For Use In This Decision: $1,452,511.

Estimated Charge Effective Date: May 1, 2026.

Estimated Charge Expiration Date: December 1, 2037.

Class of Air Carriers Not Required To Collect PFC'S: No change from previous decision.

Brief Description of Project Approved For Use: Taxiway A (construction).

Decision Date: April 16, 2014.

FOR FURTHER INFORMATION CONTACT: Jeffrey Breeden, Washington Airports District Office, (703) 661-1363.

Public Agency: Capital Region Airport Commission, Richmond, Virginia.

Application Number: 14-06-C-00-RIC.

Application Type: Impose and use a PFC.

PFC Level: $4.50.

Total PFC Revenue Approved In This Decision: $34,350,000.

Earliest Charge Effective Date: October 1, 2019.

Estimated Charge Expiration Date: March 1, 2025.

Class of Air Carriers Not Required to Collect PFC'S: Part 135 on-demand air taxi/commercial operators filing FAA Form 1800-31.

Determination: Approved. Based on information submitted in the public agency's application, the FAA has determined that the proposed class accounts for less than 1 percent of the total annual enplanements at MOB.

Brief Description of Projects Approved for Collection And Use: Reconstruction and realignment of taxiway M.

East side roadway and utilities project.

Professional services PFC preparation and administration.

Brief Description of Projects Approved for Collection: Construct snow removal equipment building.

Construct cargo apron improvements.

Construct general aviation apron improvements.

Reconstruction of taxiway E and portions of taxiway L.

Decision Date: April 16, 2014.

FOR FURTHER INFORMATION CONTACT: Jeffrey Breeden, Washington Airports District Office, (703) 661-1363.

Public Agency: County of Sonoma, Santa Rosa, California.

Application Number: 14-06-C-00-STS.

Application Type: Impose and use a PFC.

PFC Level: $4.50.

Total PFC Revenue Approved In This Decision: $8,039,573.

Earliest Charge Effective Date: June 1, 2014.

Estimated Charge Expiration Date: April 1, 2026.

Class of Air Carriers Not Required To Collect Pfc's: None.

Brief Description of Projects Approved for Collection And Use: Terminal building renovation and expansion.

Runway safety area enhancement.

Decision Date: April 22, 2014.

FOR FURTHER INFORMATION CONTACT: Neil Kumar, San Francisco Airports District Office, (650) 827-7627.

Amendments to PFC Approvals
Amendment No. city, state | Amendment approved date | Original approved net PFC revenue | Amended approved net PFC revenue | Original estimated charge exp. date | Amended estimated charge exp. date
12-04-C-01-DAL Dallas, TX | 04/03/14 | $13,637,816 | $13,037,816 | 10/01/27 | 10/01/27
10-02-C-02-PHF Newport News, VA | 04/10/14 | 15,866,709 | 20,114,239 | 03/01/17 | 05/01/26
12-03-C-01-PHF Newport News, VA | 04/10/14 | 12,090,644 | 18,017,555 | 03/01/22 | 12/01/37
08-09-C-01-BLI Bellingham, WA | 04/10/14 | 2,548,830 | 2,250,912 | 09/01/14 | 07/01/10
05-06-C-01-ISP Islip, NY | 04/23/14 | 37,133,218 | 36,789,972 | 08/01/15 | 07/01/15

Issued in Washington, DC, on May 23, 2014.
Joe Hebert,
Manager, Financial Analysis and Passenger Facility Charge Branch.

[FR Doc. 2014-12685 Filed 5-30-14; 8:45 am]

BILLING CODE 4910-13-P